DEPARTMENT OF HEALTH AND HUMAN SERVICES

Administration for Children and Families

ACYF/FYSB; Notice of Clarification for the FY 05 Community-Based Abstinence Education Program Announcement HHS-2005-ACF-ACYF-CE-0099, CFDA# 93.010

AGENCY: Family and Youth Services Bureau (FYSB), Administration on Children, Youth, and Families (ACYF), ACF, HHS.

ACTION: Notice of clarification.

SUMMARY: This notice is to inform interested parties of a clarification to the Community-Based Abstinence Education Announcement that was published on May 20, 2005. The following clarification must be noted:

FYSB recognizes that abstinence education, as it has been so successfully implemented across the country, achieves a very beneficial impact on the development of youth in every aspect. Applicants should note that Community-Based Abstinence Education applications will only be evaluated on the extent to which they satisfy the specific eligibility criteria outlined in Section III. Eligibility and the evaluation criteria outlined in Section V.I Evaluation Criteria, which include an agency's experience and commitment to Abstinence Education as defined by Section 510(b)(2) of Title V of the Social Security Act. Curricula developed or selected for implementation in the Community-Based Abstinence Education grant program must be responsive to the eight elements of the Section 510 abstinence education definition (elements A through H) and may not be inconsistent with any aspect of this definition.

For the purposes of this announcement, a Positive Youth Development approach shall mean programs that help young people to abstain from sexual activity until marriage.

For further information about this clarification or any aspects thereof related to the Community-Based Abstinence Education program please contact Jeffrey Trimbath, Director, Abstinence Education, Family and Youth Services Bureau at 1-866-796-1591.

Dated: June 7, 2005.
Wade F. Horn,
Assistant Secretary for Children and Families.

[FR Doc. 05-11582 Filed 6-9-05; 8:45 am]

BILLING CODE 4184-01-P